DEPARTMENT OF THE INTERIOR

Bureau of Land Management

[LLES960000.L14400000.ET0000.223; MNES-059784]

Notice of Public Meetings for Withdrawal Application of Federal Lands; Cook, Lake, and Saint Louis Counties, MN

AGENCY: Bureau of Land Management, Department of the Interior.

ACTION: Notice of public meetings.

SUMMARY: The Bureau of Land Management (BLM) and United States Forest Service (USFS) will hold joint public meetings to provide opportunities for public comment on the USFS application to withdraw approximately 225,378 acres of National Forest System lands in the Rainy River Watershed on the Superior National Forest in northeastern Minnesota from disposition under the mineral and geothermal leasing laws for 20 years, subject to valid existing rights. In addition, the public meetings will provide the public with an initial opportunity to participate in the environmental assessment being performed in accordance with the National Environmental Policy Act (NEPA).

DATES: Public meetings will be held virtually on the following dates and times via Zoom:

• Wednesday, January 12, 2022, 1 p.m. to 4 p.m., Central Standard Time

• Saturday, January 15, 2022, 10 a.m. to 1 p.m., Central Standard Time

• Tuesday, January 18, 2022, 5 p.m. to 8 p.m., Central Standard Time

The BLM is accepting written comments regarding the withdrawal application and the scope of the environmental assessment until January 19, 2022.

ADDRESSES: Send written comments to F. David Radford, Deputy State Director of Geospatial Services, BLM, Eastern States Office, RE: Superior National Forest Withdrawal Application, 5275 Leesburg Pike, Falls Church, Virginia 22041; or by email to BLM_ES_Lands@blm.gov (please include Superior National Forest Withdrawal Application in the subject line).

The withdrawal application materials and public meeting information are available online at https://go.usa.gov/xeWCn. The Zoom link to register for the meetings will be available on this website not later than two weeks before the first meeting.

FOR FURTHER INFORMATION CONTACT: F. David Radford, BLM Eastern States Office, telephone: (703) 558-7759, email: fradford@blm.gov during regular business hours, 8 a.m. to 4:30 p.m., Monday through Friday, except holidays. Persons who use a telecommunications device for the deaf (TDD) may call the Federal Relay Service at (800) 877-8339 to contact Mr. Radford. The Service is available 24 hours a day, 7 days a week to leave a message or question. You will receive a reply during normal business hours.

SUPPLEMENTARY INFORMATION: On October 21, 2021, the BLM published a notice in the Federal Register announcing the receipt of a withdrawal application filed by the USFS (86 FR 58299). A 90-day public comment period on the proposal was initiated upon publication, which will close on January 19, 2022. The withdrawal application requests that the Secretary of the Interior withdraw all Federal lands and interests in lands (excluding lands with federally owned fractional mineral interests) situated within the exterior boundaries of the area depicted on the map submitted with the application, titled Appendix B: Superior National Forest, dated September 20, 2021, from disposition under the United States mineral and geothermal leasing laws for a period of 20 years, subject to valid existing rights.

The USFS will serve as the lead agency for preparing the environmental assessment to evaluate the impacts of the proposed withdrawal. Comments submitted during the 90-day public comment period will be used to inform the scope and contents of the NEPA analysis of the proposed withdrawal. Public comments previously submitted for the Superior National Forest: Minnesota Application for Withdrawal, which was canceled on September 6, 2018, will be considered during this analysis. The USFS will designate the BLM as a cooperating agency for the NEPA analysis (40 CFR 1508.1(e)). The BLM will independently evaluate and review the analysis and any other documents needed for the Secretary of the Interior to make a decision on the proposed withdrawal.

Comments, including the names and street addresses of respondents, will be available for public review by appointment at the location listed previously in the ADDRESSES section during regular business hours.

Before including your address, phone number, email address, or other personal identifying information in your comment, you should be aware that your entire comment—including your personal identifying information—may be made publicly available at any time. While you can ask us to withhold your personal identifying information from public review, we cannot guarantee that we will be able to do so.

(Authority: 40 CFR 2310.3-1)

Leah Baker,
Acting BLM Eastern States State Director.

[FR Doc. 2021-27036 Filed 12-10-21; 8:45 am]

BILLING CODE 4310-GJ-P